DEPARTMENT OF TRANSPORTATION

Federal Aviation Administration

14 CFR Parts 121 and 145

[Docket No.: FAA-2003-15085; Amendment Nos. 121-318 and 145-25]

RIN 2120-AG75

Hazardous Materials Training Requirements; Correction

AGENCY: Federal Aviation Administration (FAA), DOT.

ACTION: Final rule; correcting amendment.

SUMMARY: This document corrects the final rule, “Hazardous Materials Training Requirements” published in the Federal Register of October 7, 2005.

DATES: Effective December 20, 2005.

FOR FURTHER INFORMATION CONTACT: Janet McLaughlin, Office of Hazardous Materials, ADG-1, Federal Aviation Administration, 800 Independence Ave., SW., Washington, DC 20591; telephone (202) 267-8434.

SUPPLEMENTARY INFORMATION: On October 7, 2005, the FAA published a final rule, “Hazardous Materials Training Requirements” (70 FR 58796; Oct. 7, 2005). The rule added appendix O to part 121 to prescribe the requirements for hazardous materials training under part 121, subpart Z, and part 135, subpart K. The appendix contains two tables (one for will-carry certificate holders, and the other for will-not-carry certificate holders) showing various categories of persons, defined by job function or responsibility, and the specified category they must receive. In both tables, in the entry for “Provisions for passengers and crew,” there should not have been an “X” in the column for “Shippers.”

In addition, the rule added § 145.206 Notification of hazardous materials authorizations. As explained in the preamble of that rule, sections proposed as §§ 121.801 through 121.804 (subpart Z) were renumbered as §§ 121.1001 through 121.1007 in the final rule because other rules had been added to part 121 since the NPRM was published. Section 145.206 (a) contained a cross reference that was not correctly updated. This document corrects that error.

List of Subjects

CFR 14 CFR Part 121

Air carriers, Aircraft, Airmen, Aviation safety, Charter flights, Reporting and recordkeeping requirements, Safety, Transportation.

CFR 14 CFR Part 145

Aircraft, Aviation safety, Reporting and recordkeeping requirements.

The Amendment

In consideration of the foregoing, the Federal Aviation Administration corrects chapter I of title 14, Code of Federal Regulations, as follows:

PART 121—OPERATING REQUIREMENTS: DOMESTIC, FLAG, AND SUPPLEMENTAL OPERATIONS

1. The authority citation for part 121 continues to read as follows:

Authority: 49 U.S.C. 106(g), 40113, 40119, 41706, 44101, 44701-44702, 44705, 44709-44711, 44713, 44716-44717, 44722, 44901, 44903-44904, 44912, 45101-45105, 46105, 46301.

2. Amend appendix O by revising Table 1 and Table 2 to read as follows:

Appendix O—Hazardous Materials Training Requirements For Certificate Holders

* * * * *

Table 1.—Operators That Transport Hazardous Material—Will-Carry Certificate Holders
Aspects of transport of hazardous materials by air with which they must be familiar, as a minimum (See note 1) | Shippers (See Note 2) Will-carry | Operators and ground-handling agent's staff accepting hazardous materials (See Note 3) Will-carry | Operators and ground-handling agents staff responsible for the handling, storage, and loading of cargo and baggage Will-carry | Passenger-handling staff Will-carry | Flight crew members and load planners Will-carry | Crew members (other than flight crew members) Will-carry
General philosophy | X | X | X | X | X | X
Limitations | X | X | X | X | X | X
General requirements for shippers | X | X |  |  |  |
Classification | X | X |  |  |  |
List of hazardous materials | X | X |  |  | X |
General packing requirements | X | X |  |  |  |
Labeling and marking | X | X | X | X | X | X
Hazardous materials transport document and other relevant documentation | X | X |  |  |  |
Acceptance procedures |  | X |  |  |  |
Recognition of undeclared hazardous materials | X | X | X | X | X | X
Storage and loading procedures |  | X | X |  | X |
Pilots' notification |  | X | X |  | X |
Provisions for passengers and crew |  | X | X | X | X | X
Emergency procedures | X | X | X | X | X | X
Note 1.—Depending on the responsibilities of the person, the aspects of training to be covered may vary from those shown in the table.
Note 2.—When a person offers a consignment of hazmat, including COMAT, for or on behalf of the certificate holder, then the person must be trained in the certificate holder's training program and comply with shipper responsibilities and training. If offering goods on another certificate holder's equipment, the person must be trained in compliance with the training requirements in 49 CFR. All shippers of hazmat must be trained under 49 CFR. The shipper functions in 49 CFR mirror the training aspects that must be covered for any shipper offering hazmat for transport.
Note 3.—When an operator, its subsidiary, or an agent of the operator is undertaking the responsibilities of acceptance staff, such as the passenger handling staff accepting small parcel cargo, the certificate holder, its subsidy, or the agent must be trained in the certificate holder's training program and comply with the acceptance staff training requirements.

Table 2.—Operators That Do Not Transport Hazardous Materials—Will-Not-Carry Certificate Holders
Aspects of transport of hazardous materials by air with which they must be familiar, as a minimum (See Note 1) | Shippers (See Note 2) Will-not-carry | Operators and ground-handling agent's staff accepting cargo other than hazardous materials (See Note 3) Will-not-carry | Operators and ground-handling agents staff responsible for the handling, storage, and loading of cargo and baggage Will-not-carry | Passenger-handling staff Will-not-carry | Flight crew members and load planners Will-not-carry | Crew members (other than flight crew members) Will-not-carry
General philosophy | X | X | X | X | X | X
Limitations | X | X | X | X | X | X
General requirements for shippers | X |  |  |  |  |
Classification | X |  |  |  |  |
List of hazardous materials | X |  |  |  |  |
General packing requirements | X |  |  |  |  |
Labeling and marking | X | X | X | X | X | X
Hazardous materials transport document and other relevant documentation | X | X |  |  |  |
Acceptance procedures |  |  |  |  |  |
Recognition of undeclared hazardous materials | X | X | X | X | X | X
Storage and loading procedures |  |  |  |  |  |
Pilots' notification |  |  |  |  |  |
Provisions for passengers and Crew |  | X | X | X | X | X
Emergency procedures | X | X | X | X | X | X
Note 1—Depending on the responsibilities of the person, the aspects of training to be covered may vary from those shown in the table.
Note 2—When a person offers a consignment of hazmat, including COMAT, for air transport for or on behalf of the certificate holder, then that person must be properly trained. All shippers of hazmat must be trained under 49 CFR. The shipper functions in 49 CFR mirror the training aspects that must be covered for any shipper, including a will-not-carry certificate holder offering dangerous goods for transport, with the exception of recognition training. Recognition training is a separate FAA requirement in the certificate holder's training program.
Note 3—When an operator, its subsidiary, or an agent of the operator is undertaking the responsibilities of acceptance staff, such as the passenger handling staff accepting small parcel cargo, the certificate holder, its subsidiary, or the agent must be trained in the certificate holder's training program and comply with the acceptance staff training requirements.

PART 145—REPAIR STATIONS

3. The authority citation for part 145 continues to read as follows:

Authority: 49 U.S.C. 106(g), 40113, 44701-44702, 44707, 44717.

§ 145.206 [Amended]

4. Amend § 145.206 (a) by removing the reference to “§ 121.905 (e)” and replacing it with “§ 121.1005 (e).”

Issued in Washington, DC on December 14, 2005.
Anthony F. Fazio,
Director, Office of Rulemaking.

[FR Doc. 05-24225 Filed 12-19-05; 8:45 am]

BILLING CODE 4910-13-P